DEPARTMENT OF JUSTICE

[AAG/A Order No. 218-2001]

Privacy Act of 1974; System of Records

AGENCY: Federal Bureau of Investigation, DOJ.

ACTION: Notice.

SUMMARY: Pursuant to the Privacy Act of 1974 (5 U.S.C. 552a), and Office of Management and Budget (OMB) Circular No. A-130, notice is hereby given that the Department of Justice, Federal Bureau of Investigation (FBI), is amending the following system of records which was originally published in the Federal Register on November 25, 1998 (63 FR 65223), and was amended on December 14, 2000 (65 FR 78190):

The National Instant Criminal Background Check System (NICS) JUSTICE/FBI-018.

Opportunity for Comment: The Privacy Act (5 U.S.C. 552a(e)(4) and (11)) requires that the public be given 30 days in which to comment on any new or amended uses of information in a system of records. In addition, in accordance with Privacy Act requirements (5 U.S.C. 552a(r)), the Department of Justice has provided a report on these modifications to OMB and the Congress. OMB, which has oversight responsibilities under the Act, requires that OMB and the Congress be given 40 days in which to review major changes to Privacy Act systems. Therefore, the public, OMB, and the Congress are invited to submit written comments on this modification.

Address Comments or Requests for Further Information to: Mary E. Cahill, Management Analyst, Management and Planning Staff, Justice Management Division, Department of Justice, 1400 National Place Building, Washington, DC 20530.

EFFECTIVE DATE: These proposed changes will be effective March 5, 2001 unless comments are received that result in a contrary determination.

SUPPLEMENTARY INFORMATION: The Department is modifying the system of records to include one new routine use. This new routine use provides for disclosure of information in the NICS Audit Log to the Bureau of Alcohol, Tobacco, and Firearms (ATF) in connection with ATF's inspections of Federal Firearms Licensee records. The notice is also being modified to reflect that information about allowed transfers will only be retained in the NICS Audit Log for 90 days, unless such information is needed to pursue identified cases of misuse. Revisions to 28 CFR part 25 which underlie these changes are being implemented in the Rules section of today's Federal Register.

The notice is also being revised to clarify that system limitations on retaining information only apply to allowed transactions.

Accordingly, the system of records is modified as provided below.

Dated: January 12, 2001.
Stephen R. Colgate,
Assistant Attorney General for Administration.

Justice/FBI-018

System Name

National Instant Criminal Background Check System (NICS).

Action

The system notice published in the Federal Register on November 25, 1998 (63 FR 65223), and amended on December 14, 2000 (65 FR 78190), is further amended as follows:

1. In the section titled “Categories of Individuals Covered by the System,” subsection L is amended by changing the fourth and fifth sentences so that the subsection now reads as follows:

Categories of Individuals Covered by the System

* * * * *

L. Has applied for the transfer of a firearm or for a firearms-related permit or license and has had his or her name forwarded to the NICS as part of a request for a NICS background check. (Identifying information about this category of individuals is maintained for system administration and security purposes in the “NICS Audit Log,” a system transaction log described below under the headings “CATEGORIES OF RECORDS IN THE SYSTEM” and “RETENTION AND DISPOSAL.” Identifying information may also be maintained in appeals files for those individuals who have requested the reason for a denial or delay from the FBI, or from a law enforcement agency serving as a POC, and/or challenged the accuracy or validity of a disqualifying record or otherwise inquired about a NICS transaction. In cases of allowed transfers, all information in the NICS Audit Log related to the person or the transfer, other than the NICS Transaction Number (a unique number assigned to each valid background request inquiry) assigned to the transfer and the date the number was assigned, will be destroyed after not more than 90 days after the transfer is allowed, provided that such information may be retained for a longer period if necessary to pursue identified cases of misuse of the system. In such cases, the system will not contain any details about the type of firearm which is the subject of the proposed transfer (other than the fact that it is a handgun or long gun) or whether a sale or transfer of a firearm has actually taken place.)

2. The section titled ”Routine Uses of Records Maintained in the System, Including Categories of Users and the Purposes of Such Uses” is amended by adding a new subparagraph (“J”) at the end to read as follows:

Routine Uses of Records Maintained in the System, Including Categories of Users and the Purposes of Such Uses

* * * * *

J. Information in the NICS Audit Log (including records of approved and denied transfers) may be disclosed to the Bureau of Alcohol, Tobacco, and Firearms (ATF) in connection with ATF's inspections of Federal Firearms Licensee records.

3. In the section titled “Retention and Disposal” the second paragraph is amended to read as follows:

Retention and Disposal

* * * * *

The FBI will maintain an audit Log of all NICS transactions. Firearms transaction approvals will be maintained for 90 days (except that such information may be retained for a longer period if necessary to pursue identified cases of misuse of the system). The NICS Transaction Number (the unique number assigned to the NICS transaction) and the date on which it was assigned will be maintained indefinitely. Information related to firearms transfer denials will be retained for 10 years and then disposed of as directed by the National Archives and Record Administration.

* * * * *

[FR Doc. 01-1612 Filed 1-19-01; 8:45 am]

BILLING CODE 4410-02-M